COUNCIL ON ENVIRONMENTAL QUALITY

Guiding Principles for Sustainable Federal Buildings and Associated Instructions

AGENCY: Council on Environmental Quality.

ACTION: Notice of availability.

SUMMARY: Consistent with Executive Order, “Efficient Federal Operations,” and the “Implementing Instructions for Executive Order 13834 Efficient Federal Operations,” the Council on Environmental Quality (CEQ) has issued updated guidance to Federal agencies titled, “Guiding Principles for Sustainable Federal Buildings and Associated Instructions” (Guidance).

DATES: CEQ issued the Guiding Principles for Sustainable Federal Buildings and Associated Instructions on December 23, 2020.

ADDRESSES: The Guiding Principles for Sustainable Federal Buildings and Associated Instructions are available at https://www.sustainability.gov/resources.html.

FOR FURTHER INFORMATION CONTACT: Dee Siegel, Deputy Chief Sustainability Officer, Office of Federal Sustainability, at dee_s_siegel@ceq.eop.gov or (202) 395-5750.

SUPPLEMENTARY INFORMATION: Consistent with Executive Order 13834, “Efficient Federal Operations,” ¹ and the “Implementing Instructions for Executive Order 13834 Efficient Federal Operations,” ² CEQ has issued Guidance number CEQ-OFS-2020-1 to assist Federal agencies in designing, locating, constructing, maintaining, and operating Federal buildings in a sustainable manner that increases efficiency and optimizes performance, consistent with their missions. The Guidance provides new flexibilities regarding the use of third-party green building certification systems, and provides a consistent government-wide portfolio approach for Federal agencies to design, mitigate, and measure the impact of their buildings. The Guidance replaces and supersedes the following CEQ guidance documents: (1) “Guiding Principles for Sustainable Federal Buildings and Associated Instructions” (February 2016); (2) “Guidance for Federal Agencies on Sustainable Practices for Designed Landscapes” (October 2011) and addendum titled “Supporting the Health of Honey Bees and Other Pollinators” (October 2014); and (3) “Implementing Instructions—Sustainable Locations for Federal Facilities” (September 2011). CEQ rescinds these prior guidance documents. The Guidance applies only to Federal agencies, operations, and programs. Agencies are expected to follow the “Guiding Principles for Sustainable Federal Buildings and Associated Instructions” as part of their compliance with E.O. 13834.

¹ 83 FR 23771 (May 22, 2018).

² 84 FR 19056 (May 3, 2019), https://www.sustainability.gov/pdfs/eo13834_instructions.pdf.

(Authority: E.O. 13834, 83 FR 23771)

Mary B. Neumayr,
Chairman.

[FR Doc. 2020-28928 Filed 12-30-20; 8:45 am]

BILLING CODE 3225-F1-P